DEPARTMENT OF TRANSPORTATION

Federal Transit Administration

Preparation of an Environmental Impact Statement on the Proposed Peninsula Rail Transit Project in the Cities of Hampton and Newport News, VA

AGENCY: Federal Transit Administration (FTA), U.S. Department of Transportation (DOT).

ACTION: Notice of Intent to prepare an Environmental Impact Statement.

SUMMARY: The Federal Transit Administration (FTA) and Hampton Roads Transit (HRT) intend to prepare an Environmental Impact Statement (EIS) in accordance with the National Environmental Policy Act (NEPA) of 1969 for the proposed Peninsula Rail Transit Project to provide rail service to the Peninsula region of Hampton Roads. In addition to meeting the requirements of NEPA, the NEPA process will be used to comply with the requirements of the 1990 Clean Air Act Amendments; the National Historic Preservation Act of 1966, as amended; section 4(f) of the 1966 U.S. Department of Transportation Act; the Executive Order 12898 on Environmental Justice; and all other applicable laws, regulations, and executive orders.

A Major Investment Study (MIS) for the Peninsula Corridor was completed in 1997, adopting Light Rail Transit as the Preferred Alternative. In 2001, Hampton Roads Transit (HRT) initiated an Alternatives Analysis study (AA) to update the MIS by evaluating a range of transit alignments and potential transit system extensions. HRT, with extensive coordination from the Hampton Roads Planning District Commission (HRPDC) serving as the Metropolitan Planning Organization (MPO), municipalities, local and State agencies, community and business stakeholders, and the public, identified ten potential alignments and two rail technologies (Light Rail Vehicles [LRV] and Diesel Multiple Units [DMU]) for further evaluation. The evaluation recommended a Locally Preferred Alternative (LPA) that was formally adopted in Spring 2003 by the HRPDC serving as the MPO, York County, James City County, and the Cities of Williamsburg, Newport News, and Hampton. The LPA consisted of a rail transit corridor between Williamsburg and downtown Newport News (including the Southeast Community of Newport News) generally along the CSX railroad right-of-way, including and connecting with a rail transit corridor generally along Hampton Roads Center Parkway to downtown Hampton. The LPA Report available for public review from HRT as described below in SUPPLEMENTARY INFORMATION documents the initial results of the Alternatives Analysis study.

Because of the large regional scale of the LPA (a 32-mile corridor), HRT proposed phased implementation for the LPA beginning with an initial phase that is commonly referred to as a Minimum Operable Segment (MOS). Five alternative initial phases or MOSs were discussed with the municipalities beginning in summer 2003. Based upon agreed upon evaluation criteria and other factors such as special trip generator locations, two MOSs have been selected to be carried forward for study in the EIS. The technologies under consideration for these two MOSs include LRV and DMU. FTA will require that the initial phase have logical termini and independent utility so that it does not prejudice the consideration of alternatives in subsequent phases or a decision to forego subsequent phases completely.

Six alternatives are proposed to be addressed in the EIS: a No-Build Alternative, a Transportation Systems Management Alternative, Light Rail Transit (LRT) operating on two alternative MOSs, and DMU operating on the same two MOSs. Any other reasonable alternative emerging from the scoping process will also be given consideration unless the earlier studies mentioned above have already provided justification for its elimination. Scoping activities will include public meetings and an agency scoping meeting during the months of April and May 2004.

DATES: Comment Due Date: Written comments on the scope of alternatives and impacts to be considered in the EIS must be received no later than May 17, 2003 and must be sent to HRT at the address indicated below. Scoping Meetings: HRT will conduct two identical public scoping meetings and an agency scoping meeting. The public scoping meetings will be held on April 27, 2004, from 4 to 7 p.m., at the City of Hampton Main Library, 4207 Victoria Boulevard, and on April 29th, 2004, from 4 to 7 p.m., at the City of Newport News City Center Conference Facilities, James Room, 700 Town Center Drive. The agency scoping meeting will be scheduled in consultation with representatives of the agencies most likely to have an interest or jurisdiction over some aspect of the project.

ADDRESSES: Written comments should be sent to Marie Arnt, Hampton Roads Transit, Community Relations Manager at 3400 Victoria Blvd., Hampton, Virginia 23669 or by e-mail to marnt@hrtransit.org. To be added to the mailing list contact Marie Arnt at 757-222-6000. Persons with special needs such as sign language interpreters should contact Marie Arnt at 757-222-6000 at least 48 hours prior to the scheduled meeting times. The dates and addresses of the scoping meetings are given in the DATES section above. All locations are accessible to people with disabilities and are open to all members of the community.

FOR FURTHER INFORMATION CONTACT: To request a scoping information booklet or copies of previous project reports including the LPA Report please contact Marie Arnt at 757-222-6000 or visit the HRT web page at http://www.hrtransit.org. The Federal Transit Administration contact is Ms. Patricia Kampf at (215) 656-7100.

SUPPLEMENTARY INFORMATION:

I. Scoping

The Federal Transit Administration (FTA) and Hampton Roads Transit (HRT) invite all interested individuals, organizations, and federal, state, and local agencies to provide comments on the scope of the study. During the scoping process, comments should focus on defining the alternatives to be studied in the EIS, identifying specific social, economic, or environmental issues to be evaluated. Comments should also focus on study area transportation/transit needs and potential alternatives, which would satisfy these needs. Individual preference for an alternative should be communicated later, during the comment period for the draft EIS. A Scoping Information Booklet will be circulated to all federal, state, and local agencies having jurisdiction over any aspect of the project and to all interested parties currently on the Peninsula Corridor mailing list. The Scoping Information Booklet and the LPA Report will be available at the scoping meetings or in advance of the meetings by contacting Marie Arnt at HRT, as indicated above in ADDRESSES.Scoping comments may be made at the public scoping meetings listed above in the DATES section of this notice or in writing within 30-days of this notice as listed in the ADDRESSES section of this notice.

The comments received during the public scoping meeting will be summarized and provided to the Project Steering Committee who will recommend alternatives to be carried forward in the EIS and the scope of the study. FTA and the cities of Newport News and Hampton will make the final decision on what alternatives are studied.

II. Purpose and Need

The project is needed to address the projected increase in population and employment growth in the Peninsula Corridor. This population and employment growth, and current congested conditions on existing roadways will result in continued increased demand for transportation alternatives. Roadways in the corridor are projected to operate with moderate to severe congestion by 2025 and are currently limited in both capacity and right-of-way. Existing transit service operates on the streets with traffic congestion and does not provide improved travel time over other vehicular traffic.

III. Description of the Study Area

The study area for the initial segment is a 22-mile corridor. This portion of the corridor generally parallels the existing CSX mainline on the Virginia Peninsula for 15.2 miles within the City of Newport News, Virginia and also includes a 6.8 mile corridor along the Hampton Roads Center Parkway from the Airport/Oyster Point area of Newport News to the Hampton Coliseum in the City of Hampton, Virginia.

IV. Alternatives

The alternatives proposed for consideration include a No-Build Alternative, a Transportation Systems Management (TSM) Alternative, two Light Rail Transit (LRT) Alternatives and two Diesel Multiple Unit (DMU) Alternatives. A brief description of the alternatives is below:

No-Build Alternative. This Alternative consists of highway and transit systems existing as of the year 2000, plus projects included in the Hampton Roads 2026 Regional Transportation Plan, adopted December 17, 2003. This alternative serves as the baseline for the NEPA process and enables the comparison of the transportation, social, economic, and environmental impacts.

Transportation Systems Management (TSM) Alternative. This Alternative consists of low cost transit improvements beyond those that are included in the 2026 Long Range Transportation Plan. The TSM Alternative attempts to address the project purpose and need without a major investment in a fixed guideway system.

Light Rail Transit Alternative. This Alternative provides light rail transit service to the Peninsula region of Hampton Roads. Two alternatives for light rail are to be carried forward for detailed evaluation in the draft EIS as described below.

MOS 3—Newport News City Hall to Ft. Eustis Boulevard. MOS 3 would be located totally within the City of Newport News, Virginia. The southern end of the MOS would be located at the City Hall Station at Washington Avenue and 25th Street in downtown Newport News and would extend to the Ft. Eustis Station at Ft. Eustis Boulevard and the CSX Railroad on the north. The total alignment length would be 15.2 miles.

MOS 4B—Newport News City Hall to Hampton Coliseum. MOS 4B would be located within the Cities of Newport News and Hampton, Virginia. The southern end of the MOS would be located at the City Hall Station at Washington Avenue and 25th Street in downtown Newport News and would extend to the Middle Ground Road Station at Middle Ground Road and the CSX Railroad on the north. The MOS would then turn towards the Hampton Coliseum and would end at the Coliseum parking lot at Coliseum Station. The total alignment length would be 17.1 miles.

Diesel Multiple Unit Alternatives. These alternatives would provide DMU service on the same MOS alignments described above for the Light Rail Alternative.

V. Probable Effects

FTA and HRT will evaluate all social, economic, and environmental impacts of the No-Build, TSM, and MOS 3 and MOS 4B for light rail and diesel multiple unit rail technologies. Potential impacts could include land use, zoning, and economic development; secondary development; cumulative impacts; land acquisition, displacements and relocation of existing uses; historic, archaeological and cultural resources; parklands and recreation areas; visual and aesthetic qualities; neighborhoods and environmental justice; air quality; noise and vibration; contaminated materials; ecosystems; water resources; Coastal Zone Management; energy; construction impacts; safety and security; finance; and transportation impacts. The impacts will be evaluated both for the construction period and for the long-term period of operation of each alternative. Measures to avoid, minimize or mitigate any significant adverse impacts will be identified. The cumulative impacts of the proposed action and other reasonably foreseeable actions affecting the same resources as the proposed action will be considered.

FTA and HRT invite comments on the scope of the EIS to ensure that the full range of issues and concerns of the public, interested parties, and federal, state, and local agencies are addressed. Comments should be directed to the parties listed in the ADDRESSES section above within the time frame set forth in the DATES section above.

VI. FTA Procedures

In accordance with the FTA regulation on environmental impact regulations and related procedures (23 CFR part 771), the draft EIS will evaluate the social, economic, and environmental impacts of the proposed action and alternatives. Upon completion, the draft EIS will be available for public and agency review and comment. Public hearing(s) will be held within the study area. On the basis of the draft EIS and the public and agency comments received on it, a preferred alternative will be selected for further detailed analysis in the final EIS.

Issued on: April 20, 2004.
Herman C. Shipman,
FTA Acting Regional Administrator.

[FR Doc. 04-9389 Filed 4-23-04; 8:45 am]

BILLING CODE 4910-57-P